DEPARTMENT OF AGRICULTURE

Animal and Plant Health Inspection Service

[Docket No. 04-067-1]

Notice of Request for Extension of Approval of an Information Collection

Correction

In notice document 04-16435 beginning on page 43386 in the issue of Tuesday, July 20, 2004, make the following correction:

On page 43386, in the first column, in the DATES section, in the second and third lines “September 17, 2004” should read “September 20, 2004”.

[FR Doc. C4-16435 Filed 8-3-04; 8:45 am]

BILLING CODE 1505-01-D

ENVIRONMENTAL PROTECTION AGENCY

40 CFR Parts 9, 122, 123, 124, and 125

[FRL-7625-9]

RIN 2040-AD62

National Pollutant Discharge Elimination System—Final Regulations to Establish Requirements for Cooling Water Intake Structures at Phase II Existing Facilities

Correction

In rule document 04-4130 beginning on page 41576 in the issue of Friday, July 9, 2004, make the following corrections:

1. On page 41593, in the first column, in the first paragraph, in the eighth and ninth lines, “[insert four years after date of publication in the FR]” should read “July 9, 2008.”

2. On the same page, in the same column, in the same paragraph, in the 12th to 14th lines, “[insert three years and 180 days after date of publication in the FR]” should read “January 7, 2008.”

§125.95 [Corrected]

3. On page 41687, §125.95(a)(2)(ii), in the second column, in the first paragraph, in the second and third lines, “[insert four years after date of publication in the FR]” should read “July 9, 2008.”

4. On the same page, in the same column, in the same section, in the same paragraph, in the seventh to ninth lines, “[insert three years and 180 days after date of publication in the FR]” should read “January 7, 2008.”

[FR Doc. C4-4130 Filed 8-3-04; 8:45 am]

BILLING CODE 1505-01-D